DEPARTMENT OF ENERGY

Federal Energy Regulatory Commission

[Project No. 2678-006]

Pacific Gas and Electric Company; Notice of Application Tendered for Filing With the Commission, and Establishing Procedural Schedule for Licensing and Deadline for Submission of Final Amendments

Take notice that the following transmission line only project application has been filed with the Commission and is available for public inspection.

a. Type of Application: Subsequent License—Transmission Line Only.

b. Project No: P-2678-006.

c. Date Filed: April 24, 2014.

d. Applicant: Pacific Gas and Electric Company (PG&E).

e. Name of Project: Narrows No. 2 Transmission Line Project.

f. Location: The Narrows No. 2 Transmission Line Project is located within the Yuba River watershed, in Yuba and Nevada counties, California. The project originates on public land administered by the United States Army Corps of Engineers.

g. Filed Pursuant to: Federal Power Act 16 U.S.C. 791(a)-825(r)

h. Applicant Contact: Mr. Mark Stewart, Pacific Gas and Electric Company, 4636 Missouri Flat Road, Placerville, CA, 95667. Tel: (530) 621-7243 or by email at m9s5@pge.com.

i. FERC Contact: Jim Fargo, (202) 502-6095 or james.fargo@ferc.gov.

j. Status: This application is not ready for environmental analysis at this time.

k. Description of Project: The project includes about 1,638 feet (0.31 mile) of three-phase, 60-kilovolt transmission line from the Yuba County Water Authority's (YCWA) Narrows No. 2 Powerhouse (a component of FERC Project No. 2246), in Yuba County, to PG&E's Narrows No. 2 substation. The Narrows No. 2 transmission line is not included as part of the Narrows No. 2 development. PG&E is not proposing to modify the existing project and does not plan any changes to the operation or maintenance of the transmission line.

l. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via email of new filings and issuances related to this or other pending projects. For assistance, contact FERC Online Support.

m. With this notice, we are initiating consultation with the California State Historic Preservation Officer (SHPO), as required by section 106, National Historic Preservation Act, and the regulations of the Advisory Council on Historic Preservation, 36 CFR 800.4.

n. Procedural schedule and final amendments: This application will be processed according to the following Licensing Schedule. Revisions to the schedule will be made if the Commission determines it necessary to do so.

Milestone | Tentative date
Notice of Acceptance/Notice of Ready for Environmental Analysis | May 2014.
Filing of recommendations, preliminary terms and conditions, and fishway prescriptions | July 2014.
Commission issues EA | September 2014.
Comments on EA | October 2014.
Modified Terms and Conditions | December 2015.
Commission Issues Final EA | February 2015.

Final amendments to the application must be filed with the Commission no later than 30 days from the issuance date of the notice soliciting final terms and conditions.

Dated: May 5, 2014.
Kimberly D. Bose,
Secretary.

[FR Doc. 2014-10706 Filed 5-8-14; 8:45 am]

BILLING CODE 6717-01-P